DEPARTMENT OF STATE

22 CFR Part 41

[Public Notice 4315]

RIN 1400-AA97

Documentation of Nonimmigrants Under the Immigration and Nationality Act, as Amended—Waiver of the Nonimmigrant Visa Fees for Members of Observer Missions to the United Nations

AGENCY: Department of State.

ACTION: Final rule.

SUMMARY: This rule makes final the Department's interim rule published on August 29, 2000. The interim rule extended the waiver of the visa application and issuance fees to B-1 visa applicants coming to the United States as participants in their U.N. observer missions.

EFFECTIVE DATE: This rule is effective March 20, 2003.

FOR FURTHER INFORMATION CONTACT: Pam Chavez, Legislation and Regulations Division, Visa Office, Room L603-C, SA-1, Department of State, Washington, DC 20522-0106, (202) 663-1206 or e-mail at chavezpr@state.gov.

SUPPLEMENTARY INFORMATION: On August 29, 2000, the Department published an interim rule [65 FR 52306] that extended the waiver of the visa application and issuance fees to persons who are members of observer missions to the United Nations who apply as B-1 applicants to enter as participants in their U.N. observer missions. Previously, the regulation granted the waiver only to aliens coming in various diplomatic classifications, including those related to international organizations. However, aliens coming to the United Nations in an observer capacity on B-1 visas were not granted the waiver.

Final Rule

The interim rule amended the Departments' regulations at 22 CFR 41.107(c)(1). Since the Department does not feel it necessary to amend the regulations as published in the interim rule, the interim rule is adopted as a final rule without change.

Dated: February 5, 2003.
Maura Harty,
Assistant Secretary for Consular Affairs, Department of State.

[FR Doc. 03-6719 Filed 3-19-03; 8:45 am]

BILLING CODE 4710-06-P